DEPARTMENT OF THE INTERIOR

Geological Survey

Technology Transfer Act of 1986; Exploration Company of Delaware, Inc.

AGENCY: Geological Survey, Interior.

ACTION: Notice of Proposed Cooperative Research and Development Agreement (CRADA) Negotiations.

SUMMARY: The United States Geological Survey (USGS) is contemplating entering into a Cooperative Research and Development Agreement (CRADA) with the Exploration Company of Delaware, Inc., to obtain and characterize various coalbeds from the Maverick Basin, in south Texas.

INQUIRIES: If any other parties are interested in similar activities with the USGS, please contact Charles E. Barker, USGS Denver Federal Center, Sixth Ave. and Kipling St., Building 20, MS 977, Denver, CO 80225, (303) 236-5797.

SUPPLEMENTARY INFORMATION: This notice is submitted to meet the USGS requirements stipulated in Survey Manual Chapter 500.20.

P. Patrick Leahy,
Associate Director for Geology.

[FR Doc. 01-10816 Filed 4-30-01; 8:45 am]

BILLING CODE 4310-47-M